DEPARTMENT OF AGRICULTURE

Submission for OMB Review; Comment Request

July 27, 2010.

The Department of Agriculture has submitted the following information collection requirement(s) to OMB for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), OIRA_Submission@OMB.EOP.GOV or fax (202) 395-5806 and to Departmental Clearance Office, USDA, OCIO, Mail Stop 7602, Washington, DC 20250-7602. Comments regarding these information collections are best assured of having their full effect if received within 30 days of this notification. Copies of the submission(s) may be obtained by calling (202) 720-8681.

An agency may not conduct or sponsor a collection of information unless the collection of information displays a currently valid OMB control number and the agency informs potential persons who are to respond to the collection of information that such persons are not required to respond to the collection of information unless it displays a currently valid OMB control number.

Rural Utilities Service

Title: Broadband Grant Program.

OMB Control Number: 0572-0127.

Summary of Collection: Congress has recognized the need to facilitate the deployment of broadband service to un-served rural areas. The provision to broadband transmission service is vital to the economic development, education, health, and safety of rural Americans. The Consolidated Appropriations Act, 2004 (Title III, Pub. L. 108-199, Stat.3), 7 CFR 1739 Subpart A, as amended, authorizes the Rural Development, Rural Utilities Service to administer the Community Connect Grant Program for the provision of broadband transmission service in rural America. Grant authority is utilized to deploy broadband infrastructure to extremely rural, lower income communities on a “community-oriented connectivity” basis.

Need and Use of the Information: The Rural Development Utilities Programs (RUS) gives priority to rural areas that it believes have the greatest need for broadband transmission services. This broadband access is intended to promote economic development and provide enhanced educational and health care opportunities. RUS will provide financial assistance to eligible entities that are proposing to deploy broadband transmission service in rural communities where such service does not currently exist and who will connect the critical community facilities including the local schools, libraries, hospitals, police, fire and rescue services and who will operate a community center that provides free and open access to residents.

Description of Respondents: Business or other for-profit; Not-for-profit institutions; State, Local or Tribal Government

Number of Respondents: 90.

Frequency of Responses: Reporting; On occasion.

Total Burden Hours: 14,442.

Charlene Parker,
Departmental Information Collection Clearance Officer.

[FR Doc. 2010-18822 Filed 7-30-10; 8:45 am]

BILLING CODE 3410-15-P